DEPARTMENT OF ENERGY

Federal Energy Regulatory Commission

Combined Notice of Filings #1

Take notice that the Commission received the following electric corporate filings:

Docket Numbers: EC15-148-000.

Applicants: Balko Wind, LLC, Balko Wind Transmission, LLC, DESRI VI Balko Wind Holdings, L.L.C.

Description: Application for Approval Under Section 203 of the Federal Power Act of Balko Wind, LLC, et al.

Filed Date: 5/28/15.

Accession Number: 20150528-5066.

Comments Due: 5 p.m. ET 6/18/15.

Take notice that the Commission received the following electric rate filings:

Docket Numbers: ER15-1144-001.

Applicants: San Diego Gas & Electric Company.

Description: Tariff Amendment per 35.17(b): ER15-1144-000 Responses to Deficiency Letter to be effective 3/1/2015 under ER15-1144 Filing Type: 180.

Filed Date: 5/28/15.

Accession Number: 20150528-5212.

Comments Due: 5 p.m. ET 6/18/15.

Docket Numbers: ER15-1687-001.

Applicants: Blue Cube Operations LLC.

Description: Tariff Amendment per 35.17(b): Amendment to Petition to be effective 5/9/2015.

Filed Date: 5/27/15.

Accession Number: 20150527-5156.

Comments Due: 5 p.m. ET 6/17/15.

Docket Numbers: ER15-1790-000.

Applicants: PJM Interconnection, L.L.C.

Description: Section 205(d) rate filing per 35.13(a)(2)(iii): Original Service Agreement No. 4141; Queue #Y3-043 to be effective 4/27/2015.

Filed Date: 5/27/15.

Accession Number: 20150527-5180.

Comments Due: 5 p.m. ET 6/17/15.

Docket Numbers: ER15-1791-000.

Applicants: Arizona Public Service Company.

Description: Tariff Withdrawal per 35.15: Rate Schedule No. 256—Cancellation to be effective 5/22/2015.

Filed Date: 5/27/15.

Accession Number: 20150527-5190.

Comments Due: 5 p.m. ET 6/17/15.

Docket Numbers: ER15-1792-000.

Applicants: Midcontinent Independent System Operator, Inc.

Description: Section 205(d) rate filing per 35.13(a)(2)(iii): 2015-05-28_SA 2792 ATC-NSP Joint Development Agreement to be effective 3/19/2014.

Filed Date: 5/28/15.

Accession Number: 20150528-5054.

Comments Due: 5 p.m. ET 6/18/15.

Docket Numbers: ER15-1793-000.

Applicants: South Carolina Electric & Gas Company.

Description: Section 205(d) rate filing per 35.13(a)(2)(iii): Clean Up Filing (10, 12, sch. 4, Att. F, G, M) to be effective 8/30/2010.

Filed Date: 5/28/15.

Accession Number: 20150528-5063.

Comments Due: 5 p.m. ET 6/18/15.

Docket Numbers: ER15-1794-000.

Applicants: PJM Interconnection, L.L.C.

Description: Section 205(d) rate filing per 35.13(a)(2)(iii): First Revised Service Agreement No. 4012; Queue W1-003/Z1-100/AA1-025 et al. to be effective 4/28/2015.

Filed Date: 5/28/15.

Accession Number: 20150528-5133.

Comments Due: 5 p.m. ET 6/18/15.

Docket Numbers: ER15-1795-000.

Applicants: Citizens Sunrise Transmission LLC.

Description: Section 205(d) rate filing per 35.13(a)(2)(iii): Annual Operating Cost True-Up Adjustment Informational Filing to be effective 6/1/2015.

Filed Date: 5/28/15.

Accession Number: 20150528-5154.

Comments Due: 5 p.m. ET 6/18/15.

Docket Numbers: ER15-1796-000.

Applicants: Pacific Gas and Electric Company.

Description: Notice of Termination of Service Agreement No. 1 under Electric Tariff Volume No. 4 for Wholesale Distribution Service of Pacific Gas and Electric Company.

Filed Date: 5/28/15.

Accession Number: 20150528-5156.

Comments Due: 5 p.m. ET 6/18/15.

Docket Numbers: ER15-1797-000.

Applicants: Southwest Power Pool, Inc.

Description: Section 205(d) rate filing per 35.13(a)(2)(iii): 2522 Tres Amigas/SPS Interconnection Agreement Cancellation to be effective 5/12/2015.

Filed Date: 5/28/15.

Accession Number: 20150528-5162.

Comments Due: 5 p.m. ET 6/18/15.

Docket Numbers: ER15-1798-000.

Applicants: San Diego Gas & Electric Company.

Description: Section 205(d) rate filing per 35.13(a)(2)(iii): SDGE Annual Filing of Revised Costs and Accruals for PBOPs to be effective 1/1/2016.

Filed Date: 5/28/15.

Accession Number: 20150528-5194.

Comments Due: 5 p.m. ET 6/18/15.

Docket Numbers: ER15-1799-000.

Applicants: PJM Interconnection, L.L.C., Virginia Electric and Power Company.

Description: Section 205(d) rate filing per 35.13(a)(2)(iii): Dominion (“VEPCo”) submits for filing Revised Service Agreement 3453 to be effective 5/4/2015.

Filed Date: 5/28/15.

Accession Number: 20150528-5192.

Comments Due: 5 p.m. ET 6/18/15.

Take notice that the Commission received the following electric securities filings:

Docket Numbers: ES15-19-000.

Applicants: AEP West Virginia Transmission Company, Inc.

Description: Amendment to April 27, 2015 Application under to Section 204 of the Federal Power Act of AEP West Virginia Transmission Company, Inc. for authorization to issue securities.

Filed Date: 5/28/15.

Accession Number: 20150528-5078.

Comments Due: 5 p.m. ET 6/8/15.

Take notice that the Commission received the following electric reliability filings:

Docket Numbers: RR15-2-001.

Applicants: North American Electric Reliability Corp.

Description: Compliance Filing of the North American Electric Reliability Corporation.

Filed Date: 5/20/15.

Accession Number: 20150520-5229.

Comments Due: 5 p.m. ET 6/10/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 28, 2015.
Nathaniel J. Davis, Sr.,
Deputy Secretary.

[FR Doc. 2015-13606 Filed 6-3-15; 8:45 am]

BILLING CODE 6717-01-P